DEPARTMENT OF LABOR

Employment and Training Administration

[TA-W-38,953]

Steag Hamatech, Inc., Saco, ME; Notice of Revised Determination on Reconsideration

By letter of July 9, 2001, the company, requested administrative reconsideration regrading the Department's Negative Determination Regarding Eligibility to Apply for Worker Adjustment Assistance, applicable to the workers of the subject firm.

The initial investigation resulted in a negative determination issued on May 21, 2001, based on the finding that the “contributed importantly;” group eligibility requirement of section 222(3) of the Trade Act of 1974, as amended, was not met. The investigation revealed that imports did not contribute importantly to worker separations at the firm. A major portion of production was for the export market. The reason for the separations at the subject firm was the transfer of production aboard. The denial notice was published in the Federal Register on June 8, 2001 (66 FR 30947).

To support the request for reconsideration, the company provided additional information clarifying how the company was impacted by imported products like and directly competitive with what was produced at the subject firm.

The company indicated that they were the only domestic manufacturer of this type of equipment (referred to as replication equipment) and that the machinery is a type of capital equipment, which normally is not purchased on an annual basis. The domestic market accounted for a meaningful portion of the subject plant's customer base.

The additional information supplied by the company helped clarity customer response(s) in the survey that was conducted during the original investigation. Upon examination of the survey, it is now clear that major customer significantly increased their imports of machinery like and directly competitive with what the subject plant produced during the relevant period.

Conclusion

After careful review of the additional facts obtained on reconsideration, I conclude that increased imports or articles like or directly competitive with those produced at STEAG Hamatech, Saco, Maine contributed importantly to the declines in sales or production and to the total or partial separation of workers at the subject firms. In accordance with the provisions of the Act, I the following certification:

All workers of STEAG Hamatech, Saco, Maine, who became totally or partially separated from employment on or after March 21, 2000 through two years from the date of this certification, are eligible to apply for adjustment assistance under section 223 of the Trade Act of 1974.

Dated: Signed in Washington, DC this 11th day of December 2001.
Edward A. Tomchick,
Director, Division of Trade Adjustment Assistance.

[FR Doc. 01-31622 Filed 12-21-01; 8:45 am]

BILLING CODE 4510-30-M